DEPARTMENT OF HEALTH AND HUMAN SERVICES

Centers for Disease Control and Prevention

Announcement of Requirements and Registration for Million Hearts ™ Caregiver Video Challenge

AGENCY: Centers for Disease Control and Prevention (CDC), Department of Health and Human Services (HHS).

ACTION: Notice.

Aware Approving Official: Thomas R. Frieden, MD, MPH, Director, Centers for Disease Control and Prevention, and Administrator, Agency for Toxic Substances and Disease Registry.

SUMMARY: The Centers for Disease Control and Prevention (CDC) within the Department of Health and Human Services, in partnership with Million Hearts ™ announces the launch of The Million Hearts TM Caregiver Video Challenge. We invite people who play a role in helping to prevent or control high blood pressure or maintain the heart health of a loved one to share their stories of caregiving by creating original, compelling videos that are less than 2 minutes long. The videos should include a description of how the caregiver contributes to another person's heart health and provide helpful tips related to high blood pressure prevention or control.

This challenge is necessary to engage a key audience of the Million Hearts ™ initiative and to recognize individuals who work hard to provide care for their family members or friends. The goal of this Challenge is to have caregivers create inspiring videos that provide other caregivers helpful tips on heart healthy practices, particularly on the prevention and control of high blood pressure. Through these personalized videos we intend to promote heart disease prevention through blood pressure control, medication adherence, and lifestyle changes to the public.

DATES: Contestants can submit videos July 16, 2012 through August 31, 2012. Judging will take place September 10-28, 2012. Winners will be announced on October 8, 2012.

FOR FURTHER INFORMATION CONTACT: Megan Steinbauer, Officer of the Associate Director for Communication, Centers for Disease Control and Prevention, 1600 Clifton Road NE., Mailstop G-21, Atlanta, Georgia 30329, phone (404) 639-3245, email weo6@cdc.gov.

SUPPLEMENTARY INFORMATION:

Subject of Challenge Competition

“The Million Hearts TM Caregiver Video Challenge” will engage the caregiver community. We ask caregivers to create and submit videos that describe their role in caring for the heart health, particularly by helping to prevent or control high blood pressure, of loved ones. In the videos caregivers should describe how they help family members remember to take medications as directed (medication adherence), offer tips for monitoring blood pressure at home to improve blood pressure control, or show how to encourage lifestyle changes that benefit blood pressure control. Lifestyle changes include increasing physical activity or reducing sodium in the diet.

Eligibility Rules for Participating in the Competition

The Challenge is open to any Contestant, defined as an individual or team of U.S. citizens or permanent residents of the United States who are 18 years of age or older. All individual members of a team must meet the eligibility requirements. “Team members” do not include people whose only contribution is appearing in the video. Minors can appear in the video, as long as the necessary consent is provided.

To be eligible to win a prize under this challenge, an individual or entity—

(1) Shall have registered to participate in the competition under the rules promulgated by Centers for Disease Control and Prevention;

(2) Shall have complied with all the requirements under this section;

(3) In the case of a private entity, shall be incorporated in and maintain a primary place of business in the United States, and in the case of an individual, whether participating singly or in a group, shall be a citizen or permanent resident of the United States; and

(4) May not be a Federal entity or Federal employee acting within the scope of their employment. Federal employees seeking to participate in this contest outside the scope of their employment should consult their ethics official prior to developing their submission.

(5) May not be employees of the HHS, judges of the Challenge, or any other party involved with the design, production, execution, or distribution of the Challenge or their immediate family (spouse, parents or step-parents, siblings and step-siblings, and children and step-children).

(6) Shall not be an HHS employee, not otherwise associated with the challenge within the scope of their employment, working on their applications or submissions during assigned duty hours.

(7) Federal grantees may not use Federal funds to develop COMPETES Act challenge applications unless consistent with the purpose of their grant award.

(8) Federal contractors may not use Federal funds from a contract to develop COMPETES Act challenge applications or to fund efforts in support of a COMPETES Act challenge submission.

An individual or entity shall not be deemed ineligible because the individual or entity used Federal facilities or consulted with Federal employees during a competition if the facilities and employees are made available to all individuals and entities participating in the competition on an equitable basis.

By entering, each Contestant agrees to: (a) Comply with, and be bound by, these Official Rules and the decisions of the Challenge and judges which are binding and final in all matters relating to this Challenge; (b) Assume any and all risks and waive claims against the Federal Government and its related entities, except in the case of willful misconduct, for any injury, death, damage, or loss of property (including any damage that may result from a virus, malware, etc. to CDC systems utilized to play the video), revenue, or profits, whether direct, indirect, or consequential, arising from the Contestant's participation in the Challenge, whether the injury, death, damage, or loss arises through negligence or otherwise. The Contestant/Submitter shall be liable for, and shall indemnify and hold harmless the Government against, all actions or claims for any claim, demand, judgment, or other allegation arising from alleged violation of an individual's trademark, copyright, or other legally protected interest in video's submitted to CDC.

Provided, however, that Contestants are not required to waive claims arising out of the unauthorized use or disclosure by the Sponsor and/or Administrator of the intellectual property, trade secrets, or confidential business information of the Contestant. (c) Be responsible for obtaining their own liability insurance to cover claims by any third party for death, bodily injury, or property damage, or loss resulting from an activity carried out in connection with participation in the Challenge, and claims by the Federal Government for damage or loss to Government property resulting from such an activity; and (d) Indemnify the Federal Government against third party claims for damages arising from or related to Challenge activities.

Registration Process for Participants

The Million HeartsTM Caregiver Video Challenge can be registered for on http://www.challenge.gov. Interested persons should read the official rules and guidelines posted on the Challenge site (www.MillionHearts.challenge.gov) to create an eligible video. If a person wishes to register to enter a submission, they must click on the link to “follow” the Challenge at the top of the Challenge site.

Amount of the Prize

Three winners will be selected. The first place winner will receive $500.00. The second and third place winners will receive $250.00 each.

Payment of the Prize

Prizes awarded under this competition will be paid by check and may be subject to Federal income taxes. The prizes are donated by a private donor, the CDC Foundation.

Basis Upon Which Winner Will Be Selected

The videos will be judged by Million Hearts™ leadership and external partners in compliance with the requirements of the America COMPETES Act. Judges will be named after the Challenge begins. The judging panel will make decisions based on the following criteria:

(1) How appropriate is the video to the theme? Judges will score the entries on the extent to which each video supports the Challenge goals and follows the official rules and guidelines. Following the theme, videos should provide appropriate and accurate care and prevention information.

(2) How is the caregiver's story told? Submissions will be judged on the creativity, originality, and memorability of the information presented in the videos.

(3) How enjoyable is the video to watch? All types of videos will be accepted into the Challenge. However, judges will rate each video on its visual and sound quality and how clearly the caregiver's story is communicated.

(4) To what extent does the video have the potential to impact others? Submitted videos should be persuasive and motivate other caregivers and their family members to perform heart-healthy practices. Videos should offer easy to execute, useful tips regarding the prevention and control of high blood pressure.

Additional Information

More information on the topic areas can be found on http://millionhearts.hhs.gov/abouthds/prevention.html.

Regarding Copyright/Intellectual Property: Upon Submission, Contestant warrants that he or she is the sole author and owner of the contest Submission, and that the contest Submission completely originates with the Contestant, that it does not infringe upon any copyright or any other rights of any third party of which Contestant(s) is aware, and is free of malware.

Submission Rights: All videos submitted to the Million HeartsTM Caregiver Video Contest remain the intellectual property of the individuals who developed them. However, HHS and CDC maintain a non-exclusive, royalty-free license to use, reproduce, publish, distribute and exhibit the submission/winning video in any and all formats or manner for educational, training and other public health purposes consistent with HHS and/or CDC's mission.

Compliance With Rules and Contacting Contest Winners

Finalists and the Contest Winners must comply with all terms and conditions of these Official Rules; winning is contingent upon fulfilling all requirements herein. The initial finalists will be notified by email, telephone, or mail after the date of the judging. Awards may be subject to Federal income taxes, and the Department of Health and Human Services will comply with the Internal Revenue Service withholding and reporting requirements, where applicable.

Privacy

If Contestants choose to provide the CDC with personal information by registering or filling out the submission form through the Challenge.gov Web site, that information is used to respond to Contestants in matters regarding their submission, announcements of entrants, finalists, and winners of the Contest. Information is not collected for commercial marketing. Winners are permitted to cite that they won this contest.

General Conditions

The CDC reserves the right to cancel, suspend, and/or modify the Contest, or any part of it, for any reason, at CDC's sole discretion.

Participation in this Contest constitutes a contestants' full and unconditional agreement to abide by the Contest's Official Rules found at www.Challenge.gov.

Authority: 15 U.S.C. 3719.

Dated: July 2, 2012.
Tanja Popovic,
Deputy Associate Director for Science, Centers for Disease Control and Prevention.

[FR Doc. 2012-16666 Filed 7-6-12; 8:45 am]

BILLING CODE 4163-18-P